DEPARTMENT OF LABOR

Employment and Training Administration

[TA-W-60,996; TA-W-60,996A; TA-W-60,996B]

Yamaha Music Manufacturing Inc., Thomaston, GA; Yamaha Musical Products Inc., Grand Rapids, MI; Yamaha Corporation of America, Grand Rapids, MI; Notice of Termination of Investigation

Pursuant to Section 221 of the Trade Act of 1974, as amended, an investigation was initiated on February 20, 2007 in response to a petition filed by a company official on behalf of workers at Yamaha Music Manufacturing Inc., Thomaston, Georgia (TA-W-60,996), Yamaha Musical Products Inc., Grand Rapids, Michigan (TA-W-60,996A), and Yamaha Corporation of America, Grand Rapids, Michigan (TA-W-60,996B).

The petitioner has requested that the petition be withdrawn. Consequently, the investigation has been terminated.

Signed at Washington, DC, this 27th day of March, 2007.
Linda G. Poole,
Certifying Officer, Division of Trade Adjustment Assistance.

[FR Doc. E7-6431 Filed 4-5-07; 8:45 am]

BILLING CODE 4510-FN-P